FEDERAL COMMUNICATIONS COMMISSION

Radio Broadcasting Services; AM or FM Proposals To Change the Community of License

AGENCY: Federal Communications Commission.

ACTION: Notice.

SUMMARY: The following applicants filed AM or FM proposals to change the community of license: ACE Radio Corporation, Station NEW, Facility ID 166075, BNPH-20060308AJG, from Mertzon, TX, to Goodfellow AFB, TX; Alaska Educational Radio System, Inc., Station KABN-FM, Facility ID 93588, BPED-20070907AHA, from Kasilof, AK, to Sterling, AK; American Family Association, Station WMSB, Facility ID 42060, BMPED-20070830ADY, from Senatobia, MS, to Byhalia, MS; American Family Association, Station WQVI, Facility ID 93254, BPED-20070905ABH, from Forest, MS, to Madison, MS; American Family Association, Station WIGH, Facility ID 25543, BPED-20070906AAK, from Lexington, TN, to Jackson, TN; Appaloosa Broadcasting Company, Inc., Station KIMX, Facility ID 82007, BPH-20070822AAL, from LARAMIE, 9Y, to Nunn, CO; California State University, Sacramento, Station KXSR, Facility ID 8328, BPED-20070907AGI, from Groveland, CA, to Angles Camp, CA; Coltrace Communications, Inc., Station WTWS, Facility ID 15563, BPH-20070907AEO, from Harrison, MI, to Houghton Lake, MI; Coltrace Communications, Inc., Station WUPS, Facility ID 49694, BPH-20070907AEP, from Houghton Lake, MI, to Harrison, MI; Csn International, Station WAJC, Facility ID 41094, BPED-20070821ABE, from Wilson, NC, to Zebulon, NC; CSN International, Station WTMK, Facility ID 90498, BPED-20070830AAU, from Lowell, IN, to Wanatah, IN; CSN International, Station KJCQ, Facility ID 124890, BPED-20070906ADK, from Quincy, CA, to WESTWOOD, CA; CSN International, Station KJCU, Facility ID 87930, BPED-20070906ADN, from Laytonville, CA, to Fort Bragg, CA; CSN international, Station KAJC, Facility ID 91565, BPED-20070906ADR, from Salem, OR, to Millersburg, OR; Cumulus Licensing, LLC., Station NEW, Facility ID 162261, BMPH-20070911ACM, from Chatfield, MN, to Eyota, MN; Cumulus Licensing, LLC., Station KFIL-FM, Facility ID 34428, BPH-20070911ACO, from Preston, MN, to Chatfield, MN; Educational Media Foundation, Station WKVF, Facility ID 859, BPH-20070830ADZ, from Byhalia, MS, to Germantown, TN; Educational Media Foundation, Station WKVZ, Facility ID 64493, BPH-20070830AEB, from Ripley, TN, to Hayti, MO; Educational Media Foundation, Station KAER, Facility ID 93355, BPED-20070907AFS, from St. George, UT, to Mesquite, NV; Four Rivers Community Broadcasting Corporation, Station 990901MA, Facility ID 94223, BMPED-20070906AFP, from Mcconnellsburg, PA, To Hustontown, PA; Gla-Mar Broadcasting, LLC., Station KBZB, Facility ID 78999, BPH-20070803ADL, from Pioche, NV, to SANTA CLARA, UT; Horizon Christian Fellowship, Station WWDL, Facility ID 91476, BMPED-20070907AGR, from Lebanon, IN, to Plainfield, IN; Indiana Community Radio Corp., Station WJCF, Facility ID 91193, BPED-20070827AEJ, from Morristown, IN, to Greenfield, IN; New Century Media Group, LLC., Station WKXU, Facility ID 22322, BPH-20060921ACX, from Louisburg, NC, to Hillsborough, NC; Northern Star Broadcasting, LLC., Station WMKC, Facility ID 42141, BPH-20070905AAN, from St. Ignace, MI, to Indian River, MI; Rural California Broadcasting Corp., Station KRCB-FM, Facility ID 57946, BPED-20070906AFL, from Santa Rosa, CA, to Windsor, CA; Sutton Radiocasting Corporation, Station WRBN, Facility ID 56201, BMPH-20070830AEJ, from Clayton, GA, to Dillsboro, NC; Tejas Broadcasting, LLP, Station NEW, Facility ID 162373, BMPH-20070829ADC, from Texico, NM, to Bovina, TX; White Park Broadcasting, Inc., Station KANT, Facility ID 164287, BMPH-20070828AAX, from Guernsey, WY, to Glendo, WY.

DATES: Comments may be filed through November 30, 2007.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E7-19341 Filed 9-28-07; 8:45 am]

BILLING CODE 6712-01-P